DEPARTMENT OF HEALTH AND HUMAN SERVICES

Food and Drug Administration

[Docket No. FDA-2020-N-1648]

Pediatric Advisory Committee; Notice of Meeting; Establishment of a Public Docket; Request for Comments; Amendment of Notice

AGENCY: Food and Drug Administration, Health and Human Services (HHS).

ACTION: Notice.

SUMMARY: The Food and Drug Administration (FDA) is announcing an amendment to the notice of meeting of the Pediatric Advisory Committee. This meeting was announced in the Federal Register of July 23, 2020. The amendment is being made to reflect a change in the Procedure portion of the document. There are no other changes.

FOR FURTHER INFORMATION CONTACT: Marieann Brill, Office of the Commissioner, Food and Drug Administration, 10903 New Hampshire Ave., Bldg. 32, Rm. 5154, Silver Spring, MD 20993, 240-402-3838, or FDA Advisory Committee Information Line, 1-800-741-8138 (301-443-0572 in the Washington, DC area). Please call the Information Line for up-to-date information on this meeting.

SUPPLEMENTARY INFORMATION: In the Federal Register of July 23, 2020, 85 FR 44541, FDA announced that a meeting of the Pediatric Advisory Committee would be held on September 15, 2020. On page 44542, in the third column, the Procedure portion of the document is changed to read as follows:

Oral presentations from the public will be scheduled between approximately 11:30 a.m. to 12:30 p.m. Eastern Time.

This notice is issued under the Federal Advisory Committee Act (5 U.S.C. app. 2) and 21 CFR part 14, relating to the advisory committees.

Dated: August 10, 2020.
Lauren K. Roth,
Associate Commissioner for Policy.

[FR Doc. 2020-17775 Filed 8-13-20; 8:45 am]

BILLING CODE 4164-01-P